DEPARTMENT OF HOMELAND SECURITY

Transportation Security Administration

[Docket No. TSA-2003-14610]

Revision of Agency Information Collection Activity Under OMB Review: Security Threat Assessment for Individuals Applying for a Hazardous Materials Endorsement for a Commercial Driver's License

AGENCY: Transportation Security Administration, DHS.

ACTION: 30-Day notice.

SUMMARY: This notice announces that the Transportation Security Administration (TSA) has forwarded the Information Collection Request (ICR), Office of Management and Budget (OMB) control number 1652-0027, abstracted below to OMB for review and approval of revision of the currently approved collection under the Paperwork Reduction Act (PRA). The ICR describes the nature of the information collection and its expected burden. The collection involves the submission of biometric and biographic information that TSA uses to verify identity and conduct a security threat assessment (STA) required before obtaining the hazardous materials endorsement (HME) on a commercial driver's license (CDL) issued by States and the District of Columbia, and a customer satisfaction survey.

DATES: Send your comments by January 26, 2022. A comment to OMB is most effective if OMB receives it within 30 days of publication.

ADDRESSES: Written comments and recommendations for the proposed information collection should be sent within 30 days of publication of this notice to www.reginfo.gov/public/do/PRAMain. Find this particular information collection by selecting “Currently under 30-day Review—Open for Public Comments” or by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice soliciting comments for a 60-day period on April 8, 2021, 86 FR 18293.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Threat Assessment for Individuals Applying for a Hazardous Materials Endorsement for a Commercial Driver's License.

Type of Request: Revision of a currently approved collection.

OMB Control Number: 1652-0027.

Forms(s): HME Threat Assessment Program (HTAP) Disclosure and Certification Form, HME Pre-Enrollment Application, HME Enrollment Application, and HME Customer Satisfaction Survey.

Affected Public: Drivers seeking an HME on their state-issued CDL.

Abstract: This collection supports the implementation of sec. 1012 of the USA PATRIOT Act,¹ which mandates that no State or the District of Columbia may issue an HME on a CDL unless TSA has first determined the driver is not a threat to transportation security. TSA's implementing regulations (codified at 49 CFR part 1572) describe the procedures, standards, and eligibility criteria for STAs on individuals seeking to obtain, renew, or transfer an HME on a state-issued CDL. To conduct the STA for the HME, States (or a TSA-designated agent in States that elect to have TSA perform the collection of information) must collect additional information beyond that already collected for the purpose of HME applications (which occur approximately once every five years). The driver is required to submit an application that includes personal information including driver's legal name; current and previous mailing addresses; date of birth; gender; height, weight, eye, and hair color; city, state, and country of birth; social security number (optional); immigration status; mental incapacity; criminal history; and biometrics, such as fingerprints.

¹ Public Law 107-56 (115 Stat. 272, 396; Oct. 26, 2001) as codified at 49 U.S.C. 5103a.

States or the TSA agent must also submit whether the driver is a new applicant or applying to renew or transfer the HME. This information is necessary for TSA to forecast driver retention, transfer rate, and drop rate to help improve customer service and reduce program costs. This information also may be necessary to provide comparability with other Federal background checks, including the Transportation Worker Identification Credential.

When the STA is complete, TSA makes a final determination on eligibility for the HME and notifies States of its decision and may provide notifications to the HME applicants of its decision. Most States and applicants will receive notification from TSA within two to three weeks of the submission of their completed applications. If TSA identifies potentially disqualifying information, it will send a letter to the HME applicants with instructions on how to proceed. If initially deemed ineligible by TSA, applicants will have an opportunity to apply for an appeal or waiver. Applicants must submit an application for appeal or waiver within 60 days of issuance of TSA's notification of ineligibility. If an application for appeal or waiver is not received by TSA within the specified amount of time, the agency may make a final determination to deny eligibility.

TSA is revising the collection to reflect three changes to the program: (1) Online renewal capability; (2) enrollment in Rap Back; and (3) expanding enrollment options. First, the implementation of an online renewal capability for both active HME holders whose STA has not yet expired as well as HME holders who have a recently expired STA. Approximately 60 percent of active HME holders enroll to renew their HME when it expires every five years. Online HME renewals will reduce the applicant's cost and hour burden by avoiding visiting a TSA enrollment center for the renewal of a STA.

Second, TSA is revising the collection of biometric fingerprints in States serviced by TSA's enrollment contractor to enroll HME holders in Rap Back, a service provided by the Federal Bureau of Investigation (FBI). Once an individual is enrolled in Rap Back, TSA will not be required to collect new biometric fingerprints from the individual every five years or collect a fee from the individual for the submission of fingerprints to the FBI. The implementation of Rap Back recurrent criminal history vetting for HME holders will mitigate certain security risks posed by individuals who commit a disqualifying offense after their STA is completed and the HME is issued. These changes implementing online renewals and the use of Rap Back will result in lower costs to TSA, which in turn reduces the STA fee applicants must pay.

Third, TSA is revising the collection of information to expand enrollment options and the potential use of biographic and biometric (e.g., fingerprints, iris scans, and/or photo) information. This revision would allow for facilitation of the security threat assessment and future use of the information collected for additional comparability determinations, such as allowing the HME applicant to obtain a Transportation Worker Identification Credential (TWIC®) without requiring an additional background check.

Finally, TSA invites all HME applicants who enroll using TSA's enrollment provider to complete an optional survey to gather information on the applicant's overall customer satisfaction with the enrollment process. This optional survey is administered at the conclusion of the enrollment process, including the new online renewals, where applicable. The results from these surveys are compiled to produce reports that are reviewed by the enrollment services provider and TSA.

Number of Annual Respondents: 247,952.

Estimated Annual Burden Hours: An estimated 332,978 hours annually.

Estimated Annual Cost: $19.80 million.

Dated: December 21, 2021.
Christina A. Walsh,
TSA Paperwork Reduction Act Officer, Information Technology.

[FR Doc. 2021-28041 Filed 12-23-21; 8:45 am]

BILLING CODE 9110-05-P